ENVIRONMENTAL PROTECTION AGENCY

[EPA-HQ-OPP-2009-0879; FRL-8806-4]

Exposure Modeling Public Meeting

AGENCY: Environmental Protection Agency (EPA).

ACTION: Notice of Cancellation and Rescheduling of meeting.

SUMMARY: This notice announces that the Exposure Modeling Public Meeting (EMPM), scheduled for January 26, 2010, has been cancelled and that the next EMPM will be held in July 2010.

DATES: The next EMPM meeting will be held in July 2010. The specific date of the next meeting will be announced in a February 2010 issue of the Federal Register.

ADDRESSES: The meeting will be held at EPA's, Office of Pesticide Programs (OPP), One Potomac Yard (South Bldg.), 1st Floor South Conference Room, 2777 S. Crystal Drive, Arlington, VA 22202.

FOR FURTHER INFORMATION CONTACT: Chuck Peck, Environmental Fate and Effects Division (7507P), Office of Pesticide Programs, Environmental Protection Agency, 1200 Pennsylvania Ave., NW., Washington, DC 20460-0001; telephone number: (703) 347-8064; fax number: (703) 305-6309; e-mail address: peck.charles@epa.gov.

SUPPLEMENTARY INFORMATION:

I. General Information

A. Does this Action Apply to Me?

You may be potentially affected by this action if you are required to conduct testing of chemical substances under the Toxic Substances Control Act (TSCA), the Federal Food, Drug and Cosmetic Act (FFDCA), or the Federal Insecticide, Fungicide, and Rodenticide Act (FIFRA). Since other entities may also be interested, the Agency has not attempted to describe all the specific entities that may be affected by this action.

If you have any questions regarding the applicability of this action to a particular entity, consult the person listed under FOR FURTHER INFORMATION CONTACT.

B. How Can I Get Copies of this Document and Other Related Information?

EPA has established a docket for this action under docket ID number EPA-HQ-OPP-2009-0879. As the meeting has been indefinitely postponed, no materials will be posted on the docket. Publicly available docket materials for future EMPM conferences are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

The purpose of the Exposure Modeling Public Meetings is to share new information among stakeholders through presentations on current issues in modeling pesticide fate, transport, and exposure in support of pesticide exposure assessment in a regulatory context. The meetings began in 2002, with typically 5 to 10 presentations made at each meeting on topics such as assessing risks to non-target terrestrial invertebrates, drinking water well contamination, plans for national monitoring of streams and ground water, and examination of non-agricultural pesticide use by means of GIS coverages. Meeting dates and abstract requests are announced in advance through the “empmlist” forum on the LYRIS list server at https://lists.epa.gov/read/all_forums/ as well as through notice in the Federal Register. At the October 2009 meeting, EPA proposed to modify the frequency of the meetings from three to two meetings per year, to ensure a full agenda and the most productive use of the meeting time. Because of the timing of the January 2010 meeting and proposed presentations, EPA is cancelling that meeting and will hold the next EMPM in July 2010. The specific date of the next meeting will be announced in a February 2010 issue of the Federal Register.

III. How Can I Request to Participate in this Meeting?

You may submit a request to participate in future meetings to the person listed under FOR FURTHER INFORMATION CONTACT. Do not submit any information in your request that is considered CBI. Requests to participate in future meetings must be received on or before January 21, 2010.

IV. Tentative Topics for the Meeting

Presentations submitted for the January 2010 EMPM will be tentatively scheduled for the July 2010 EMPM, provided the presenters are available.

List of Subjects

Environmental protection, Administrative practice and procedure, Agricultural commodities, Pesticides and pest.

Dated: December 23, 2009.
D. J. Brady,
Director, Environmental Fate and Effects Division, Office of Pesticide Programs.

[FR Doc. 2010-31094 Filed 01-05-10; 8:45 a.m.]

BILLING CODE 6560-50-S